DEPARTMENT OF ENERGY

Federal Energy Regulatory Commission

[Docket No. CP00-165-000]

Transcontinental Gas Pipe Line Corporation; Notice of Availability of the Environmental Assessment for the Proposed Sundance Expansion Project

February 22, 2001.

The staff of the Federal Energy Regulatory Commission (FERC or Commission) has prepared an environmental assessment (EA) on the natural gas pipeline and compressor facilities proposed by Transcontinental Gas Pipe Line Corporation (Transco) in the above referenced docket.

The EA was prepared to satisfy the requirements of the National Environmental Policy Act. The staff concludes that approval of the proposed project, with appropriate mitigating measures, would not constitute a major Federal action significantly affecting the quality of the human environment.

The EA assesses the potential environmental effects of the construction and operation of Transco's proposed pipeline loops and the related expansion and modification of compressor units. Transco's proposed Sundance Expansion Project would include:

• A total of approximately 38 miles of 42-inch and 48-inch diameter pipeline looping ¹ in four separate locations on existing pipelines;

¹ A loop is a segment of pipeline that is installed adjacent to an existing pipeline and connected to it on both ends. The loop allows more gas to be moved through the pipeline system.

• Piping modifications to existing Compressor Station No. 105;

• The addition of one new 18,975 horsepower (hp) electric motor-driven compressor, the uprating of an existing 15,000 hp electric motor-driven compressor, and the uprating of an existing 16,500 hp electric motor-driven compressor to 18,975 hp at the existing Compressor Station No. 115, thus increasing total certificated compression at the facility to 56,925 hp;

• The addition of one new 15,000 hp gas turbine-driven natural gas compressor and the uprating of an existing 4,000 hp compressor to 4,800 hp at existing Compressor Station No. 125, thus increasing total compression at the facility to 38,800 hp;

• The addition of gas coolers to the existing Compressor Station No. 150;

• The Installation of various pig launcher/receiver facilities and mainline block valves at the beginnings and ends of the proposed loops, with additional mainline block valves installed as needed on the loops.

The Sundance Expansion Project also includes nonjurisdictional facilities. These include a 6.5-mile-long, 24-inch-diameter pipeline (Wansley Lateral) from a tap on Transco's Mainline System at milepost 1000.9 to a planned electric generating facility (Wansley Plant) in Heard County, Georgia, set for commencement of service on June 1, 2002; and an 81.7-mile-long, 30-inch-diameter pipeline (Richmond Lateral) from a tap on Transco's Mainline System at milepost 1286.96 to an electric generating facility (Richmond Plant) in Richmond County, North Carolina, that is presently under construction.

Transco's proposed Sundance Expansion Project would expand the capacity of its existing mainline system to transport an additional 236,383 dekatherms per day of natural gas to accommodate firm transportation service.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send copies of your comments to: Secretary, Federal Energy Regulatory Commission, 888 First St., N.E., Room 1A, Washington, DC 20426;

• Label one copy of the comments for the attention of the Gas Hydro Group;

• Reference Docket No. CP00-165-000; and

• Mail your comments so that they will be received in Washington, DC on or before March 16, 2001.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from the Commission's Office of External Affairs at (202) 208-0004 or on the FERC Internet website (www.ferc.fed.us) using the “RIMS” link to information in this docket number. Click on the “RIMS” link, select “Docket #” from the RIMS menu, and follow the instructions. For assistance with access to RIMS the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 01-5093 Filed 3-1-01; 8:45 am]

BILLING CODE 6717-01-M